DEPARTMENT OF THE INTERIOR

National Park Service

[NPS-NERO-FIIS-19137]; [PPMPSPD1Z.YM0000]

Notice of Designation of Potential Wilderness as Wilderness, Fire Island National Seashore

AGENCY: National Park Service, Interior.

ACTION: Notice of designation.

SUMMARY: The Otis Pike Fire Island High Dunes Wilderness Act, Public Law 96-585, December 23, 1980, designated approximately 1,360 acres as wilderness in the Fire Island National Seashore. Due to existing boardwalks and a pit toilet, this Act also designated approximately 18 acres of potential wilderness within Fire Island National Seashore that could be re-designated as wilderness upon elimination of these non-conforming uses. The National Park Service (NPS) described the wilderness and potential wilderness areas on maps entitled “Wilderness Plan—Fire Island National Seashore,” dated December 1980. In November 1983, the NPS adopted the “Wilderness Management Plan, Fire Island National Seashore” which also contained the legal description of the wilderness boundaries and a map showing the wilderness and the potential wilderness areas. On October 12, 1999, 17 acres of potential wilderness were re-designated as wilderness (see Federal Register Vol. 64, No. 196).

On October 29, 2012, Hurricane Sandy moved through Fire Island National Seashore, destroying the boardwalk nature trail west of the Wilderness Visitor Center, the boardwalk dune crossing, and pit toilet at Old Inlet. The footprint of the two boardwalks and pit toilet is infrastructure that existed within the boundaries of the remaining one acre (more or less) of potential wilderness, entirely in Federal ownership. Upon destruction, the non-conforming uses of this potential wilderness addition were eliminated. Section (C) of the Otis Pike Fire Island High Dunes Wilderness Act authorized the Secretary of the Interior to designate administratively as wilderness any lands previously designated as potential wilderness upon publication in the Federal Register of a notice that all uses thereon that are inconsistent with the Wilderness Act of 1964 (Pub. L. 88-577) have ceased.

Accordingly, this notice hereby converts the one acre of potential wilderness in the Otis Pike Fire Island High Dune Wilderness, within Fire Island National Seashore, to designated wilderness. The one acre (more or less) shall be added to the 1,379 acres of designated wilderness within the Otis Pike Fire Island High Dune Wilderness, and managed in accordance with the Wilderness Act of 1964.

The maps and legal description are on file at the headquarters of the Fire Island National Seashore, 120 Laurel Street, Patchogue, NY 11772, and at the Office of the Director, 1849 C Street NW., Washington, DC 20240.

Dated: September 15, 2015.
Jonathan B. Jarvis,
Director, National Park Service.

[FR Doc. 2015-26246 Filed 10-20-15; 8:45 am]

BILLING CODE 4310-WV-P